ENVIRONMENTAL PROTECTION AGENCY

[FRL-7229-8]

Agency Information Collection Activities: Submission for OMB Review; Comment Request; Water Quality Standards Regulation

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Water Quality Standards Regulation, EPA ICR No. 0988.08; OMB Control No. 2040-0049; Expiration Date: July 31, 2002. The ICR describes the nature of the information collection and its expected burden and cost; where appropriate, it includes the actual data collection instrument.

DATES: Comments must be submitted on or before July 12, 2002.

ADDRESSES: Send comments, referencing EPA ICR No. 0988.08 and OMB Control No. 2040-0049, to the following addresses: Susan Auby, U.S. Environmental Protection Agency, Collection Strategies Division (mail code 2822T), 1200 Pennsylvania Avenue, NW, Washington, DC 20460; and to Office of Information and Regulatory Affairs, Office of Management and Budget (OMB), Attention: Desk Officer for EPA, 725 17th Street, NW, Washington, DC 20503.

FOR FURTHER INFORMATION CONTACT: Contact Susan Auby at EPA by phone at (202) 566-1672, by e-mail at auby.susan@epamail.epa.gov, or download off the Internet at http://www.epa.gov/icr and refer to EPA ICR No. 0988.08. For technical questions about the ICR, contact Robert Van Brunt, Office of Water, (202) 566-0379.

SUPPLEMENTARY INFORMATION:

Title: Information Collection Request for the Water Quality Standards Regulation, OMB Control No. 2040-0049; EPA ICR No. 0988.08; expiring on July 31, 2002. This is a request for extension of a currently approved collection.

Abstract: Water Quality Standards (WQS) are provisions of State, Tribal, and Federal law which consist of designated uses for waters of the United States, numeric or narrative water quality criteria to protect the designated uses, and an antidegradation policy to protect existing uses and high quality waters. States are required by Federal law to establish water quality standards. Clean Water Act Section 303(c) requires States and certain Indian Tribes (those Tribes that have received EPA authorization to administer the water quality standards program and have had their water quality standards approved by EPA) to review and, if appropriate, revise their water quality standards regulations once every three years and to submit to EPA the results of the review. EPA then reviews each State and Tribal submission for approval or disapproval.

The WQS Regulation (40 CFR part 131) is the EPA regulation governing the implementation of the water quality standards program. The WQS Regulation describes requirements and procedures for the States and Tribes to develop, review, and revise their water quality standards, and EPA procedures for reviewing and approving the water quality standards. Additionally, the regulation specifies information that an Indian Tribe must submit to EPA in order to determine whether a Tribe is qualified to administer the WQS Program. Finally, the WQS Regulation describes a dispute resolution mechanism that will assist in resolving disputes that arise between States and Tribes over water quality standards on common waterbodies.

The ICR now includes provisions of section 101 of the Great Lakes Critical Programs Act (CPA) that amends section 118 of the CWA and directs EPA to publish water quality guidance for the Great Lakes System, codified in 40 CFR part 132. These provisions were formerly EPA ICR No. 1639.04 with OMB control number 2040-0180. The Guidance establishes minimum water quality criteria, implementation procedures, and antidegradation provisions for the Great Lakes System. Information collection requirements that may be necessary to implement State, Tribal, EPA promulgated provisions consistent with the final Guidance include: (1) Bioassays to support the development of water quality criteria (2) antidegradation policy/demonstrations; and, (3) regulatory relief options (e.g., variances from water quality criteria).

An Agency may not conduct or sponsor, and a person is not required to respond to, a collection of information unless it displays a currently valid OMB control number. The OMB control number for EPA's regulations are listed in 40 CFR part 9 and 48 CFR chapter 15. The Federal Register document required under 5 CFR 1320.8(d), soliciting comments on this collection of information was published on February 5, 2002 (67 FR 5281); no comments were received.

Burden Statement: The annual public reporting and recordkeeping burden for this collection of information is estimated to average 801 hours per response. Burden means the total time, effort, or financial resources expended by persons to generate, maintain, retain, or disclose or provide information to or for a Federal agency. This includes the time needed to review instructions; develop, acquire, install, and utilize technology and systems for the purposes of collecting. validating, and verifying information, processing and maintaining information, and disclosing and providing information; adjust the existing ways to comply with any previously applicable instructions and requirements; train personnel to be able to respond to a collection of information; search data sources; complete and review the collection of information; and transmit or otherwise disclose the information.

Respondents/Affected Entities: State, Local, and Tribal governments and industries, as publically owned treatment works (POTWs).

Estimated Number of Respondents: 56 States and Territories, 20 Tribes, 588 major industrial and POTW dischargers, and 3,207 minor dischargers.

Frequency of Response: Once every three years for water quality standards submittal to EPA; once per Tribal application for the water quality standards program; once per dispute resolution request.

Estimated Total Annual Hour Burden: 238,776 hours.

Estimated Total Annualized Capital, O&M Cost Burden: $0.

Send comments on the Agency's need for this information, the accuracy of the provided burden estimates, and any suggested methods for minimizing respondent burden, including through the use of automated collection techniques to the address listed above. Please refer to EPA ICR No. 0988.08 and OMB Control No. 2040-0049 in any correspondence.

Dated: June 3, 2002.
Oscar Morales,
Director, Collection Strategies Division.

[FR Doc. 02-14762 Filed 6-11-02; 8:45 am]

BILLING CODE 6560-50-M